DEPARTMENT OF THE INTERIOR

Bureau of Indian Affairs

[2341A2100DD/AAKC001030/A0A501010.999900]

Indian Gaming; Approval of Tribal-State Class III Gaming Compacts in the State of Oregon

AGENCY: Bureau of Indian Affairs, Interior.

ACTION: Notice.

SUMMARY: This notice publishes the approval of the Amended and Restated Tribal-State Compact for Regulation of Class III Gaming between the Confederated Tribes of the Grand Ronde Community of Oregon and the State of Oregon (Compact) governing class III gaming for the Confederated Tribes of the Grand Ronde Community of Oregon (Tribe) in the State of Oregon (State).

DATES: The Amendments take effect on February 8, 2023.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The amended and restated Compact replaces the previous compact effective July 14, 2006, including Amendment 1, effective December 28, 2012, Amendment II, effective December 13, 2017, and Amendment III, effective December 27, 2019. The Compact permits the Tribe to implement changes in operations regarding cashless wagering, licensing for certain employees and management officials, criteria for issuance of grants through the Tribe's community fund, and other technical corrections and amendments. The Compact is approved.

Bryan Newland,
Assistant Secretary, Indian Affairs.

[FR Doc. 2023-02624 Filed 2-7-23; 8:45 am]

BILLING CODE 4337-15-P